DEPARTMENT OF TRANSPORTATION

Maritime Administration

[Docket No. DOT-MARAD-2013-0137]

Request for Comments of a Previously Approved Information Collection

AGENCY: Maritime Administration, DOT.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on September 3, 2013 (54368, Vol. 78, No. 170).

DATES: Comments must be submitted on or before December 30, 2013.

FOR FURTHER INFORMATION CONTACT: Patricia Ann Thomas, Office of Sealift Support, Maritime Administration, W25-314, Department of Transportation, 1200 New Jersey Avenue SE., Washington, DC 20590. Telephone: 202-366-2646 or EMAIL: patricia.thomas@dot.gov. Copies of this collection also can be obtained from that office.

SUPPLEMENTARY INFORMATION:

Title: Merchant Marine Medals and Awards.

OMB Control Number: 2133-0506.

Type of Request: Renewal of a Previously Approved Information Collection.

Abstract: This collection of information provides a method of awarding merchant marine medals and decorations to masters, officers, and crew members of U.S. ships in recognition of their service in areas of danger during the operations by the Armed forces of the United States in World War II, Korea, Vietnam, and Operation Desert Storm.

Affected Public: Masters, officers and crew members of U.S. ships.

Estimated Number of Respondents: 550.

Estimated Number of Responses: 550.

Annual Estimated Total Annual Burden Hours: 550.

Estimated Completion Time per Response: 1 hour.

Frequency of Collection: Annually.

ADDRESSES: Send comments regarding the burden estimate, including suggestions for reducing the burden, to the Office of Management and Budget, Attention: Desk Officer for the Office of the Secretary of Transportation, 725 17th Street NW., Washington, DC 20503.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; and 49 CFR 1:48.

Dated: November 21, 2013.
Julie P. Agarwal,
Secretary, Maritime Administration.

[FR Doc. 2013-28661 Filed 11-27-13; 8:45 am]

BILLING CODE 4910-81-P